NATIONAL AERONAUTICS AND SPACE ADMINISTRATION

[Notice 00-052]

NASA Advisory Council, Life and Microgravity Sciences and Applications Advisory Committee, NASA-NIH Advisory Subcommittee on Biomedical and Behavioral Research Meeting

AGENCY: National Aeronautics and Space Administration.

ACTION: Notice of meeting.

SUMMARY: In accordance with the Federal Advisory Committee Act, Pub. L. 92-463, as amended, the National Aeronautics and Space Administration announces a meeting of the NASA Advisory Council, Life and Microgravity Sciences and Applications Advisory Committee, NASA-NIH Advisory Subcommittee on Biomedical and Behavioral Research.

DATES: Thursday, June 8, 2000, 8:00 a.m. to 4:00 p.m.

ADDRESSES: National Aeronautics and Space Administration Headquarters, 300 E Street, SW, MIC-3, Room 3H46, Washington, DC 20546.

FOR FURTHER INFORMATION CONTACT: Dr. Joan Vernikos, Code UL, National Aeronautics and Space Administration, Washington, DC 20546, 202/358-0220.

SUPPLEMENTARY INFORMATION: The meeting will be open to the public up to the seating capacity of the room. The agenda for the meeting is as follows:

—Action Status

—NASA Update

—NASA Life Sciences Division Update

—LSAS and LMSAAC Reports

—NIH/NASA Program Announcement

—Joint Workshops Update

—NASA/NIH Three-Dimensional Tissue Culture Center

—Discussions and Review of Findings and Recommendations

It is imperative that the meeting be held on this date to accommodate the scheduling priorities of the key participants.

Visitors will be requested to sign a visitor's register.

Dated: May 9, 2000.
Matthew M. Crouch,
Advisory Committee Management Officer, National Aeronautics and Space Administration.

[FR Doc. 00-12051 Filed 5-12-00; 8:45 am]

BILLING CODE 7510-01-P